DEPARTMENT OF HEALTH AND HUMAN SERVICES

Administration for Community Living

Agency Information Collection Activities; Submission for OMB Review; Public Comment Request; State Health Insurance Assistance Program (SHIP) Client Contact Forms OMB Control Number 0985-0040

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the proposed revision for the information collection requirements related to the State Health Insurance Assistance Program (SHIP) Client Contact Forms OMB Control Number 0985-0040.

DATES: Comments on the collection of information must be submitted electronically by 11:59 p.m. (EST) or postmarked by January 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Katherine Glendening, Administration for Community Living, Katherine.Glendening@acl.hhs.gov, (202) 795-7350.

SUPPLEMENTARY INFORMATION: In compliance with the Paperwork Reduction Act (44 U.S.C. 3507), the Administration for Community Living (ACL) has submitted the following proposed collection of information to OMB for review and clearance. The purpose of this data collection is to collect performance data from grantees, grantee team members and partners. Congress requires this data collection for program monitoring and Government Performance Results Act (GPRA) (31 U.S.C. 1115) purposes. This data collection allows ACL to communicate with Congress and the public on the SHIP, the Senior Medicare Patrol (SMP) program, and the Medicare Improvements for Patients & Providers Act (MIPPA) program, in addition to the SHIP Data Performance Reports and Information Collection under OMB 0985-0040. The SHIP, SMP, and MIPPA programs are in each of the 50 states, the District of Columbia, Puerto Rico, Guam, and the U.S. Virgin Islands. To ensure that grantees report activity accurately and consistently it is imperative that these data collection tools remain active. The respondents for this data collection are grantees, grantee team members, and partners who meet with Medicare beneficiaries and older adults in-group settings and in one-on-one sessions to educate them on Medicare enrollment, Medicare benefits and subsidy programs, the importance of being aware of Medicare fraud, error, and abuse, and having the knowledge to protect the Medicare system.

Authorizing Legislation: The Omnibus Budget Reconciliation Act of 1990 created the State Health Insurance Assistance Program (SHIP) (U.S.C. 1395b-4) and requires the Secretary to provide a series of reports to the U.S. Congress on the performance of the SHIP program annually. The law also requires ACL to report on the program's impact on beneficiaries and to obtain important feedback from beneficiaries. This tool captures the information and data necessary for ACL to meet these Congressional requirements, as well as, capturing performance data on individual grantees providing ACL with essential insight for monitoring and technical assistance purposes. In addition, MIPPA (42 U.S.C. 1935b-3 notes), provided targeted funding for the SHIPs, area agencies on aging, and Aging and Disability Resource Centers to conduct enrollment assistance to Medicare beneficiaries for the Limited Income Subsidy and Medicare Savings Program. These activities have been funded nearly annually through a series of funding or extenders bills. This tool also collects performance and outcome data on the MIPPA Program providing ACL necessary information for monitoring and oversight.

Under Public Law 104-208, the Omnibus Consolidated Appropriations Act of 1997, Congress established the Senior Medicare Patrol Projects to further curb losses to the Medicare program. The Senate Committee noted that retired professionals, with appropriate training, could serve as educators and resources to assist Medicare beneficiaries and others to detect and report errors, fraud, and abuse.

Among other requirements, it directed ACL to work with the Department of Health and Human Services, Office of Inspector General (HHS/OIG) and the Government Accountability Office (GAO), to assess the performance of the program. ACL employs this tool to collect performance and outcome data on the SMP Program, necessary information for monitoring and oversight. ACL has shared this data and worked with HHS/OIG to develop SMP performance measures.

The HHS/OIG has collected SMP performance data and issued SMP performance reports since 1997. The information from the current collection is reported by the HHS/OIG to Congress and the public. This information is also used by ACL as the primary method for monitoring the SMP Projects.

This data collection will also support ACL in tracking performance outcomes and efficiency measures with respect to annual and long-term performance targets established in the GPRA.

This information collection collects demographic data from people receiving programs and services funded by ACL. ACL will adhere to best practices for collection of all demographic information when this information is collected for the programs listed in accordance with OMB guidance.

This includes, but is not limited to, guidance specific to the collection of sexual orientation and gender identity (SOGI) items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

Comments in Response to the 60-Day Federal Register Notice

ACL published a 60-day FRN on October 25, 2023, at 88 FR 73345. ACL did not receive any public comments during the 60-day FRN.

Estimated Program Burden: ACL estimates the respondent burden hours to prepare and complete all reports associated with this collection as 329,294 annual burden hours. This estimate is based on the current data system's aggregate data and reports. Modifying several forms, ACL has reduced the overall burden hours associated with this information collection along with grantees no longer generating reports outside of the data system.

Form name | Estimated time in minutes | Fraction of an hour
SMP Media Outreach & Education | 4 | 0.0667
SMP Group Outreach & Education | 4 | 0.0667
SMP Individual Interaction | 5 | 0.0833
SMP Team Member Activity | 5 | 0.0833
SMP Interaction | 5 | 0.0833
SMP Team Member | 7 | 0.1166
SHIP Media Outreach & Education | 4 | 0.0667
SHIP Group Outreach & Education | 4 | 0.0667
SHIP Team Member | 7 | 0.1166
SHIP Beneficiary Contact | 5 | 0.0833
SHIP Training Form | 6 | 0.10
SHIP Team Member Activity | 7 | 0.1166
SHIP Training | 4 | 0.0667

Estimated Annualized Burden Hours

Grantee respondent type | Form/report name | Number of respondents | Number of responses per respondent | Average burden per response (in minutes) | Total burden hours
SMP | Media Outreach & Education | 216 | 46 | 4 | 662.4
SMP | Group Outreach & Education | 6,935 | 4 | 4 | 1,849.33
SMP | Individual Interaction | 6,935 | 41 | 5 | 23,694.58
SMP | Team Member | 216 | 31 | 5 | 558
SMP | SIRS Team Member Activity | 216 | 31 | 5 | 558
*SMP | OIG Report | * 0 | 0 | 0 | 0
*SMP | Time Spent Report | * 0 | 0 | 0 | 0
SHIP/MIPPA | Media Outreach & Education | 3,750 | 15 | 4 | 3,750
SHIP/MIPPA | Group Outreach & Education | 3,750 | 15 | 4 | 3,750
SHIP/MIPPA | STARS Team Member | 216 | 75 | 5 | 1,350
SHIP/MIPPA | Beneficiary Contact | 15,000 | 233 | 5 | 291,250
*SHIP/MIPPA | SHIP Performance Report | * 0 | 0 | 0 | 0
*SHIP/MIPPA | Resource Report | * 0 | 0 | 0 | 0
*SHIP/MIPPA | MIPPA Performance Report | * 0 | 0 | 0 | 0
SHIP/MIPPA | SHIP Team Member Activity | 216 | 40 | 7 | 1,008
SHIP/MIPPA | Team Member Training | 216 | 40 | 6 | 864
*SHIP/SMP/MIPPA | Summary Reports | * 0 | 0 | 0 | 0
*SHIP/MIPPA | Part D Enrollment Outcomes Report | * 0 | 0 | 0 | 0
Totals |  | 37,666 | 571 |  | 329,294.31
* This data collection activity is an automated task in the system and does not compute to an estimate of time for burden.

Dated: December 21, 2023.
Alison Barkoff,
Principal Deputy Administrator for the Administration for Community Living, performing the delegable duties of the Administrator and the Assistant Secretary for Aging.

[FR Doc. 2023-28623 Filed 12-27-23; 8:45 am]

BILLING CODE 4154-01-P